DEPARTMENT OF ENERGY

Federal Energy Regulatory Commission

Combined Notice of Filings #1

Take notice that the Commission received the following electric corporate filings:

Docket Numbers: EC18-6-000.

Applicants: V3 Commodities Group, LLC.

Description: Application for Authorization under Section 203 of the Federal Power Act, and Requests for Waivers of Filing Requirements, Expedited Review and Confidential Treatment of V3 Commodities Group, LLC.

Filed Date: 10/18/17.

Accession Number: 20171018-5191.

Comments Due: 5 p.m. ET 11/8/17.

Take notice that the Commission received the following electric rate filings:

Docket Numbers: ER13-343-008; ER13-342-012; ER16-700-001; ER16-701-001.

Applicants: CPV Shore, LLC, CPV Maryland, LLC, CPV Towantic, LLC, CPV Valley, LLC.

Description: Supplement to June 30, 2017 Market Power Update of CPV Maryland, LLC, et. al.

Filed Date: 10/18/17.

Accession Number: 20171018-5183.

Comments Due: 5 p.m. ET 11/1/17.

Docket Numbers: ER15-2735-001.

Applicants: Garrison Energy Center LLC.

Description: Report Filing: Refund Report—Informational Filing to be effective N/A.

Filed Date: 10/18/17.

Accession Number: 20171018-5145.

Comments Due: 5 p.m. ET 11/8/17.

Docket Numbers: ER17-2210-000.

Applicants: Duke Energy Carolinas, LLC.

Description: Report Filing: DEC-SCEG Refund Report to be effective N/A.

Filed Date: 10/18/17.

Accession Number: 20171018-5158.

Comments Due: 5 p.m. ET 11/8/17.

Docket Numbers: ER18-99-000.

Applicants: Southwest Power Pool, Inc.

Description: § 205(d) Rate Filing: South Central MCN LLC Formula Rate to be effective 12/31/9998.

Filed Date: 10/18/17.

Accession Number: 20171018-5171.

Comments Due: 5 p.m. ET 11/8/17.

Docket Numbers: ER18-100-000.

Applicants: Wisconsin Power and Light Company.

Description: § 205(d) Rate Filing: WPL—ACEC Wholesale Power Agreement to be effective 6/1/2020.

Filed Date: 10/18/17.

Accession Number: 20171018-5173.

Comments Due: 5 p.m. ET 11/8/17.

Docket Numbers: ER18-101-000.

Applicants: Wisconsin Power and Light Company.

Description: § 205(d) Rate Filing: WPL—CWEC Wholesale Power Agreement to be effective 6/1/2020.

Filed Date: 10/18/17.

Accession Number: 20171018-5174.

Comments Due: 5 p.m. ET 11/8/17.

Docket Numbers: ER18-102-000.

Applicants: Wisconsin Power and Light Company.

Description: § 205(d) Rate Filing: WPL—REC Wholesale Power Agreement to be effective 6/1/2020.

Filed Date: 10/18/17.

Accession Number: 20171018-5175.

Comments Due: 5 p.m. ET 11/8/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 19, 2017.
Nathaniel J. Davis, Sr.,
Deputy Secretary.

[FR Doc. 2017-23284 Filed 10-25-17; 8:45 am]

BILLING CODE 6717-01-P